DEPARTMENT OF VETERANS AFFAIRS

Privacy Act of 1974; System of Records

AGENCY: Department of Veterans Affairs (VA).

ACTION: Notice of Establishment of New System of Records.

SUMMARY: The Privacy Act of 1974, (5 U.S.C. 552a(e)(4)), requires that all agencies publish in the Federal Register a notice of the existence and character of their systems of records. Notice is hereby given that the Department of Veterans Affairs (VA) is establishing a new electronic system of records entitled “Veterans Tracking Application (VTA)-VA” (163VA005Q3).

DATES: Comments on this new system of records must be received no later than January 10, 2011. If no public comment is received, the new system will become effective January 10, 2011.

ADDRESSES: Written comments may be submitted through http://www.Regulations.gov; by mail or hand-delivery to Director, Regulations Management (02REG), Department of Veterans Affairs, 810 Vermont Avenue, NW., Room 1063B, Washington, DC 20420; or by fax to (202) 273-9026. Comments received will be available for public inspection in the Office of Regulation Policy and Management, Room 1063B, between the hours of 8 a.m. and 4:30 p.m., Monday through Friday (except holidays). Please call (202) 461-4902 for an appointment. In addition, during the comment period, comments may be viewed online through the Federal Docket Management System (FDMS) at http://www.Regulations.gov.

FOR FURTHER INFORMATION CONTACT: Louise Rodebush, VTA Program Manager (005Q), Department of Veterans Affairs, 810 Vermont Avenue, NW., Washington, DC 20420; telephone (216) 849-0193.

SUPPLEMENTARY INFORMATION:

I. Description of Proposed System of Records

The Veterans Tracking Application (VTA) and associated database supports both the Veterans Health Administration (VHA) and the Veterans Benefits Administration (VBA) branches of the Department of Veterans Affairs (VA). VTA provides the VA tracking information on members of the armed forces who will be transferred from a Department of Defense (DoD) Military Treatment Facility (MTF) to a VA health facility in the future or who already have Veteran status. The VTA provides tracking of the Servicemember's arrival at the initial VA health facility and provides date and location information for subsequent transfers to other health facilities. In addition, VTA obtains data about patient history from the imported DoD Theater Medical Data Store (TMDS). In addition to the Veteran patient population, VTA records benefit tracking information for all severely injured Veterans requesting benefits. This history includes all benefit award details to include application dates, award decisions, dates and amounts. VTA also tracks Servicemembers and Veterans disability claims through the Disability Eligibility System (DES) pilot module. The purpose of VTA is to track the initial arrival of a Servicemember into the VA health system and their subsequent movement among VA health facilities, as well as monitor benefits application and administration details.

II. Proposed Routine Use Disclosures of Data in the System

1. The record of an individual included in this system may be provided to DoD systems or offices for use in connection with matters relating to one of DoD's programs to enable delivery of healthcare or other DoD benefits to eligible beneficiaries.

2. The name, address, VA file number, effective date of compensation or pension, current and historical benefit pay amounts for compensation or pension, service information, date of birth, competency payment status, incarceration status, and social security number of veterans and their dependants may be disclosed to the approved VA and DoD office/systems to reconcile the disability claims, benefits awards, and patient data.

3. The name(s) and address(es) of a Veteran may be disclosed to another Federal agency or to a contractor of that agency, at the written request of the head of that agency or designee of the head of that agency for the purpose of conducting government research necessary to accomplish a statutory purpose of that agency.

4. VA may disclose on its own initiative any information in this system, except the names and addresses of Veterans and their dependents that is relevant to a suspected or reasonably imminent violation of law, whether civil, criminal, or regulatory in nature and whether arising by general or program statute or by regulation, rule, or order issued pursuant thereto, a Federal, State, local, tribal, or foreign agency charged with the responsibility of investigating or prosecuting such violation, or charged with enforcing or implementing the statute, regulation, rule, or order. VA may also disclose on its own initiative the names and addresses of Veterans and their dependents to a Federal agency charged with the responsibility of investigating or prosecuting civil, criminal, or regulatory violations of law, or charged with enforcing or implementing the statute, regulation, rule, or order issued pursuant thereto.

5. VA may disclose information in the system of records to the Department of Justice (DOJ), either on VA's initiative or in response to DOJ's request for the information, after either VA or DOJ determines that such information is relevant to DOJ's representation of the United States or any of its components in legal proceeding before a court or adjudicative body provided that, in each case, the agency also determines prior to disclosure that release of records to the DOJ is a use of information contained in the records that is compatible with the purpose for which VA collected the records. VA, on its own initiative, may disclose records in this system of records in legal proceedings before a court or administrative body after determining that the disclosure of the records to the court or administrative body is a use of the information contained in the records that is compatible with the purpose for which VA collected the records.

6. VA may disclose information to assist a person or entity responsible for the licensing, supervision, or professional discipline of the person or organization. Names and home addresses of veterans and their dependents will be released on VA's initiative under this routine use only to Federal entities when VA believes that the names and addresses are required by the Federal department or agency.

7. Disclosure of relevant information may be made to individuals, organizations, private or public agencies, or other entities or individuals with whom VA has a contract or agreement to perform such services as VA may deem practicable for the purposes of laws administered by VA, in order for the contractor, subcontractor or entity or individual with whom VA has an agreement or contract to perform the services of the contract or agreement.

8. VA may on its own initiative disclose information or records to appropriate agencies, entities, and persons when; (1) VA suspects or confirmed that the integrity or confidentiality of information in the system of records has been compromised; (2) VA has determined that as a result of the suspected or confirmed compromise there is a risk of embarrassment or harm to the reputations of the records subjects, harm to economic or property interest, identity theft or fraud, or harm to the security, confidentiality or integrity of this system or other systems or programs (whether maintained by VA or another agency or entity) that rely upon the potentially compromised information and; (3) the disclosure is made to such agencies, entities, and persons whom VA determines are reasonably necessary to assist in or carry out VA's efforts to respond to the suspected or confirmed compromise and prevent, minimize, or remedy such harm. This routine use permits disclosures by VA to respond to a suspected or confirmed data breach, including the conduct of any risk analysis or provision or credit protection services as provided in 38 U.S.C. 5724, as the terms are defined in 38 U.S.C. 5727.

9. Disclosure to other Federal agencies may be made to assist such agencies in preventing and detecting possible fraud or abuse by individuals in their operations and programs.

10. The record of an individual who is covered by a system of records may be disclosed to a Member of Congress, or a staff person acting for the Member, when the Member or staff person requests the record on behalf of and at the written request of the individual.

11. Disclosure may be made to the National Archives and Records Administration (NARA) or the General Services Administration (GSA) in records management inspections conducted under authority of Chapter 29 of Title 44 United States Code.

12. Any information in this system of records may be disclosed, in the course of presenting evidence in or to a court, magistrate, administrative tribunal, or grand jury, including disclosures to opposing counsel in the course of such proceedings or in settlement negotiations.

III. Compatibility of the Proposed Routine Uses

The notice of intent to publish an advance copy of the system notice has been sent to the appropriate Congressional committees and to the Director of the Office of Management and Budget (OMB) as required by 5 U.S.C. Section 552a(r) (Privacy Act) and guidelines issued by OMB (65 FR 77677), December 12, 2000.

Approved: November 16, 2010.
John R. Gingrich,
Chief of Staff, Department of Veterans Affairs.

SYSTEM NAME:

“Veterans Tracking Application (VTA)-VA” (163VA005Q3)

SYSTEM LOCATION:

The VTA system containing its associated records is maintained at the Austin Information Technology Center (AITC) at 1615 East Woodward Street, Austin, Texas 78772. A second VTA database with an identical set of records is being established as a disaster recovery site at the Hines Information Technology Center (Hines ITC) at Hines, Illinois. All records are maintained electronically.

CATEGORIES OF INDIVIDUALS COVERED BY THE SYSTEM:

The category of the individuals covered by the VTA database encompasses Veterans and Servicemembers. This would include current and separated Servicemembers and their dependents as well as Veterans whose VA military service benefits have been sought by survivors (e.g., burial benefits).

CATEGORIES OF RECORDS IN THE SYSTEM:

The record, or information contained in the record, may include identifying information (e.g., name, contact information, social security number), association to dependents, cross reference to other names used, military service participation and status information (branch of service, rank, enter on duty date, release from active duty date, military occupations, type of duty), reason and nature of active duty separation (completion of commitment, disability, hardship, etc.), combat/environmental exposures (combat pay, combat awards, theater location), combat deployments (period of deployment, location/country), Guard/Reserve activations (type of activation), military casualty/disabilities (line of duty death, physical examination board status, serious/very serious injury status, recovery plans, Department of Defense (DoD) rated disabilities, benefit participation, eligibility and usage, and VA compensation (rating, award amount).

AUTHORITY FOR MAINTENANCE OF THE SYSTEM:

The authority for maintaining this system is Title 38 U.S.C. Section 5106.

PURPOSE:

The Veterans Tracking Application (VTA) and associated database supports both the Veterans Health Administration (VHA) and the Veterans Benefits Administration (VBA) branches of the Department of Veterans Affairs (VA). VTA provides VA tracking information on members of the armed forces who will be transferred from a Department of Defense (DoD) Military Treatment Facility (MTF) to a VA health facility in the future or who already have Veteran status. The VTA provides tracking of the Servicemember's arrival at the initial VA health facility and provides date and location information for subsequent transfers to other health facilities. In addition, VTA obtains patient history data from the imported DoD Theater Medical Data Store (TMDS). In addition to the Veteran patient population, VTA records benefit tracking information for all severely injured Veterans requesting benefits. This history includes all benefit award details to include application dates, award decisions, dates and amounts. VTA also tracks Servicemembers and Veterans disability claims through the Disability Eligibility System (DES) pilot module. The purpose of the VTA is to track the initial arrival of a Servicemember into the VA health system and their subsequent movement among VA health facilities, as well as monitor benefits application and administration details.

ROUTINE USES OF RECORDS MAINTAINED IN THE SYSTEM, INCLUDING CATEGORIES OF USERS AND THE PURPOSES OF SUCH USES:

1. The record of an individual included in this system may be provided to DoD systems or offices for use in connection with matters relating to one of DoD's programs to enable delivery of healthcare or other DoD benefits to eligible beneficiaries, or for the purpose of tracking Active Duty Servicemembers.

2. The name, address, VA file number, effective date of compensation or pension, current and historical benefit pay amounts for compensation or pension, service information, date of birth, competency payment status, incarceration status, and social security number of Veterans and their dependants and survivors may be disclosed to the approved VA and DoD office/systems to reconcile the disability claims, benefits awards, and coordinating services.

3. The name(s) and address(es) of a Veteran may be disclosed to another Federal agency or to a contractor of that agency, at the written request of the head of that agency or designee of the head of that agency for the purpose of conducting government research necessary to accomplish a statutory purpose of that agency.

4. VA may disclose on its own initiative any information in this system, except the names and addresses of Veterans and their dependents, that is relevant to a suspected or reasonably imminent violation of law, whether civil, criminal, or regulatory in nature and whether arising by general or program statute or by regulation, rule, or order issued pursuant thereto, a Federal, State, local, tribal, or foreign agency charged with the responsibility of investigating or prosecuting such violation, or charged with enforcing or implementing the statute, regulation, rule, or order. VA may also disclose on its own initiative the names and addresses of Veterans and their dependents to a Federal agency charged with the responsibility of investigating or prosecuting civil, criminal, or regulatory violations of law, or charged with enforcing or implementing the statute, regulation, rule, or order issued pursuant thereto.

5. VA may disclose information in the system of records to the Department of Justice (DOJ), either VA's initiative or in response to DOJ's request for the information, after either VA or DOJ determines that such information is relevant to DOJ's representation of the United States or any of its components in legal proceeding before a court or adjudicative body, provided that, in each case, the agency also determines prior to disclosure that release of records to the DOJ is a use of information contained in the records that is compatible with the purpose for which VA collected the records. VA, on its own initiative, may disclose records in this system of records in legal proceedings before a court or administrative body after determining that the disclosure of the records to the court or administrative body is a use of the information contained in the records that is compatible with the purpose for which VA collected the records.

6. VA may disclose information to assist a person or entity responsible for the licensing, supervision, or professional discipline of the person or organization. Names and home addresses of Veterans and their dependents will be released on VA's initiative under this routine use only to Federal entities when VA believes that the names and addresses are required by the Federal department or agency.

7. Disclosure of relevant information may be made to individuals, organizations, private or public agencies, or other entities or individuals with whom VA has a contract or agreement to perform such services as VA may deem practicable for the purposes of laws administered by VA, in order for the contractor, subcontractor or entity or individual with whom VA has an agreement or contract to perform the services of the contract or agreement.

8. VA may on its own initiative disclose information or records to appropriate agencies, entities, and persons when (1) VA suspects or confirms that the integrity or confidentiality of information in the system of records has been compromised; (2) VA has determined that as a result of the suspected or confirmed compromise there is a risk of embarrassment or harm to the reputations of the records' subjects, harm to economic or property interest, identity theft or fraud, or harm to the security, confidentiality or integrity of this system or other systems or programs (whether maintained by VA or another agency or entity) that rely upon the potentially compromised information and; (3) the disclosure is made to such agencies, entities, and persons whom VA determines are reasonably necessary to assist in or carry out VA's efforts to respond to the suspected or confirmed compromise and prevent, minimize, or remedy such harm; (4) VA may provide access to the documents in this SOR when a written request is approved and authorized; (5) VA may consider individuals contesting the use of content share with other agencies when submitted in writing. This routine use permits disclosures by VA to respond to a suspected or confirmed data breach, including the conduct of any risk analysis or provision of credit protection services as provided in 38 U.S.C. Section 5724, as the terms are defined in 38 U.S.C. Section 5727.

9. Disclosure to other Federal agencies may be made to assist such agencies in preventing and detecting possible fraud or abuse by individuals in their operations and programs.

10. The record of an individual who is covered by a system of records may be disclosed to a Member of Congress, or a staff person acting for the Member, when the Member or staff person requests the record on behalf of and at the written request of the individual.

11. Disclosure may be made to the National Archives and Records Administration (NARA) or the General Services Administration (GSA) in records management inspections conducted under authority of Chapter 29 of Title 44 United States Code.

12. Any information in this system of records may be disclosed, in the course of presenting evidence in or to a court, magistrate, administrative tribunal, or grand jury, including disclosures to opposing counsel in the course of such proceedings or in settlement negotiations.

POLICIES AND PRACTICES FOR STORING, RETRIEVING, ACCESSING, RETAINING, AND DISPOSING OF RECORDS IN THE SYSTEM STORAGE:

STORAGE:

Records are transmitted between approved VA and DoD office/systems and VTA over secure telecommunications (i.e.) SFTP, secure Web services) using approved encryption technologies. Records (or information contained in records) are maintained in electronic format in the VTA database. Information from VTA is disseminated in three ways; (1) approved VA and DoD systems electronically request and receive data from VTA over the internal VA and DoD network; (2) data is provided over the secure telecommunications between VTA and approved VA and DoD office/systems for reconciliation of records; (3) periodic electronic data extracts of subsets of information contained in VTA are provided to approved VA and DoD offices/systems over the internal VA network and DoD network. Backups of VTA data are created regularly and stored in a secure off-site facility.

RETRIEVABILITY:

Records are retrieved by name, claim file number, social security number and date of birth.

SAFEGUARDS:

1. Physical Security: The primary VTA system is located in the AITC and the backup disaster recovery system is located in the Hines ITC. Access to data processing centers is generally restricted to center employees, custodial personnel, Federal Protective Service and other security personnel. Access to computer rooms is restricted to authorized operational personnel through electronic locking devices. All other persons needing access to computer rooms are escorted.

2. System Security: Access to the VA network is protected by the usage of “logon” identifications and passwords. Once on the VA network, separate ID and password credentials are required to gain access to the VTA server and/or database. Access to the server and/or database is granted to only a limited number of system administrators and database administrators. In addition, VTA has undergone certification and accreditation. Users of VTA access the system via the approved Veterans Information Portal (VIP). Users must register first through the VIP Portal and obtain a username and password. Upon approval of a VIP account, they may request access to VTA through an electronic form accessible via VIP. Based on information entered during the VTA registration process, they will be designated a role which determines their access within VTA. Based on a risk assessment that followed The National Institute of Standards and Technology (NIST), Vulnerability and Threat Guidelines, the system is considered stable and operational and a final Authority to Operate has been granted. The system was found to be operationally secure with very few exceptions or recommendations for change.

RETENTION AND DISPOSAL:

VA retains selected information for purposes of making eligibility determinations for VA benefits. The information retained may be included in the VA records that are maintained and disposed of in accordance with the appropriate record disposition authority approved by the Archivist of the United States.

SYSTEM MANAGER(S) AND ADDRESSES:

The official responsible for maintaining the VTA system is: Program Manager Louise Rodebush, Veterans Relationship Management Program Executive Office (005Q), Attn: VTA System of Records, 810 Vermont Avenue, NW., Washington, DC 20420.

NOTIFICATION PROCEDURES:

Individuals seeking information on the existence and content of a record pertaining to them should contact the system manager, in writing, at the above address. Requests should contain the full name, address and telephone number of the individual making the inquiry.

RECORD ACCESS PROCEDURE:

(See notification procedure above).

CONTESTING RECORD PROCEDURES:

(See notification procedure above).

RECORD SOURCE CATEGORIES:

Information in this system of records is provided by components of the Department of Defense and Department of Veterans Affairs.

[FR Doc. 2010-30907 Filed 12-8-10; 8:45 am]

BILLING CODE 5320-01-P